DEPARTMENT OF HOUSING AND URBAN DEVELOPMENT

[Docket No. FR-5604-N-12]

Notice of Submission of Proposed Information Collection to OMB; Comment Request: Notice of Requirements for Reporting for the Tax Credit Assistance Program (TCAP)

AGENCY: Office of the Chief Information Officer, HUD.

ACTION: Notice of proposed information collection.

SUMMARY: The proposed information collection requirement described below has been submitted to the Office of Management and Budget (OMB) for review, as required by the Paperwork Reduction Act. The Department is soliciting public comments on the subject proposal.

DATES: Comments Due Date: February 4, 2013.

ADDRESSES: Interested persons are invited to submit comments regarding this proposal. Comments should refer to the proposal by name/or OMB approval number and should be sent to: LaRuth M.Harper, Correspondence Unit Supervisor, U.S. Department of Housing and Urban Development, 451 Seventh Street SW., Room 7223 Washington, DC 20410; email: LaRuth.M.Harper@hud.gov.

FOR FURTHER INFORMATION CONTACT: Danielle Frazier, Affordable Housing Specialist, DGHF, Department of Housing and Urban Development, 451 Seventh Street SW., Washington, DC 20410; email: Danielle.Frazier@hud.gov; telephone (202) 402-7354. This is not a toll-free number. Copies of available documents submitted to OMB may be obtained from Ms. Frazier.

SUPPLEMENTARY INFORMATION: This Notice will inform the public that the U.S. Department of Housing and Urban Development (HUD) will submit revised information collection to OMB for review for the Tax Credit Assistance Program (TCAP), which is authorized under the American Recovery and Reinvestment Act (ARRA) of 2009, as required by the Paperwork Reduction Act of 1995 (44 U.S.C. Chapter 35 as amended. This program provided $2.25 billion of grant funding for capital investment in Low Income Housing Tax Credit (LIHTC) projects, which could not move forward because the economic crisis reduced the private capital available to them. HUD is administering these funds as the Tax Credit Assistance Program (TCAP). TCAP grant amounts were determined by a formula established in ARRA and were awarded by HUD to the housing credit allocating agencies of each state, the District of Columbia and the Commonwealth of Puerto Rico.

This Notice also lists the following information:

Title of Proposal: Tax Credit Assistance Program (TCAP).

Description of Information Collection: This is a revision of an already approved information collection. The Department of Housing and Urban Development is seeking review of the Paperwork Reduction Act requirements associated with the Tax Credit Assistance Program (TCAP).

Each TCAP grantee is required to use IDIS to report on project level information including the following information identified in the Office of Management and Budget (OMB) Initial Implementing Guidance for the American Recovery and Reinvestment Act of 2009 issued On February 18, 2009. Specifically, the guidance requires quarterly reporting on:

(1) The total amount of recovery funds received from that agency;

(2) The amount of recovery funds received that were obligated and expended to projects or activities. This reporting will also include unobligated Allotment balances to facilitate reconciliations.

(3) A detailed list of all projects or activities for which recovery funds were obligated and expended, including:

(A) The name of the project or activity;

(B) A description of the project or activity;

(C) An evaluation of the completion status of the project or activity;

(D) An estimate of the number of jobs created and the number of jobs retained by the project or activity; and

(E) For infrastructure investments made by State and local governments, the purpose, total cost, and rationale of the agency for funding the infrastructure investment with funds made available under this Act, and name of the person to contact at the agency if there are concerns with the infrastructure investment.

(4) Detailed information on any subcontracts or subgrants awarded by the recipient to include the data elements required to comply with the Federal Funding Accountability and Transparency act of 2006 (Pub. L. 109-282), allowing aggregate reporting on awards below $25,000 or to individuals, as prescribed by the Director of OMB.

OMB Control Number: 2506-0181.

Agency Form Numbers: None.

Members of Affected Public: State housing credit agencies.

Estimation of the total numbers of hours needed to prepare the information collection including number of respondents, frequency of responses, and hours of responses: An estimation of the total number of record keeping and reporting hours per response is 11 hours. The number of respondents is 52. The total hours requested is 8,320.

Paperwork requirement | Number of respondents | Number of responses | Total responses | Hours per response | Total hours | Cost per response * | Total cost
IDIS Activity Completion | 52 | 14 | 728 | 10 | 7,280 | $290.00 | $211,120
Grantee Website Reporting | 52 | 20 | 1,040 | 1 | 1,040 | 14.50 | 30,1600
Total Paperwork Burden |  |  |  |  | 8,320 |  | 241,280
(* This figure is based on GS-11 salary.)

Authority: The Paperwork Reduction Act of 1995, 44 U.S.C. Chapter 35, as amended.

Dated: November 29, 2012.
Clifford Taffet,
General Deputy Assistant Secretary, Office of Community Planning & Development.

[FR Doc. 2012-29354 Filed 12-4-12; 8:45 am]

BILLING CODE 4210-67-P